DEPARTMENT OF TRANSPORTATION

Federal Aviation Administration

14 CFR Part 39

[Docket No. FAA-2008-0331; Directorate Identifier 2008-CE-009-AD]

RIN 2120-AA64

Airworthiness Directives; Cessna Aircraft Company, Models 208 and 208B Airplanes

AGENCY: Federal Aviation Administration (FAA), Department of Transportation (DOT).

ACTION: Notice of proposed rulemaking (NPRM).

SUMMARY: We propose to adopt a new airworthiness directive (AD) for certain Cessna Aircraft Company (Cessna) Models 208 and 208B airplanes. This proposed AD would require inspection of the left and right wing wire bundle(s) and repair or replacement of damaged wire. This proposed AD would also require inspecting the wire bundles for correct attachment to the anchor points and correcting any deficient attachments. This proposed AD results from chafed wiring found on wire bundles in the left and right wings containing the auto-control wing de-ice system, fuel quantity indication, and low fuel annunciation on the Cessna 208B airplanes. Improper installation of wire bundle supporting hardware can cause chafed wiring in the affected bundles. We are proposing this AD to detect and correct damaged wiring of the auto-control wing de-ice system, fuel quantity indication, and low fuel annunciation systems. This condition could result in incorrect fuel quantity indications, loss of low fuel quantity annunciations, or loss of the autocontrol wing de-ice system.

DATES: We must receive comments on this proposed AD by May 16, 2008.

ADDRESSES: Use one of the following addresses to comment on this proposed AD:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this proposed AD, contact Cessna Aircraft Company, One Cessna Boulevard, P.O. Box 7706, Wichita, KS 67277-7704; telephone: (316) 517-5800; fax: (316) 942-9006.

FOR FURTHER INFORMATION CONTACT: Daniel Hilton, Aerospace Engineer, FAA, Wichita Aircraft Certification Office, 1801 Airport Road, Room 100, Wichita, Kansas 67209; telephone: 316-946-4173; e-mail address: daniel.hilton@faa.gov.

SUPPLEMENTARY INFORMATION:

Comments Invited

We invite you to send any written relevant data, views, or arguments regarding this proposed AD. Send your comments to an address listed under the ADDRESSES section. Include the docket number, “FAA-2008-0331; Directorate Identifier 2008-CE-009-AD” at the beginning of your comments. We specifically invite comments on the overall regulatory, economic, environmental, and energy aspects of the proposed AD. We will consider all comments received by the closing date and may amend the proposed AD in light of those comments.

We will post all comments we receive, without change, to http://www.regulations.gov, including any personal information you provide. We will also post a report summarizing each substantive verbal contact we receive concerning this proposed AD.

Discussion

We have reports of chafed wiring found on wire bundles in the left and right wings containing the auto-control wing de-ice system, fuel quantity indication, and low fuel annunciation on several Cessna Model 208B airplanes. Improper installation of wire bundle supporting hardware can cause chafed wiring in the affected bundles. We are proposing this AD to detect and correct damaged wiring of the auto-control wing de-ice system, fuel quantity indication, and low fuel annunciation systems. This condition, if not corrected, could result in incorrect fuel quantity indications, loss of low fuel quantity annunciations, or loss of the auto-control wing de-ice system.

Relevant Service Information

We have reviewed Cessna Aircraft Company Service Bulletin CAB08-02, dated February 4, 2008.

The service information describes procedures for:

• Inspecting the left and right wing electrical wire bundles;

• Repairing and properly attaching damaged wires; and

• Properly securing loosely attached wires.

FAA's Determination and Requirements of the Proposed AD

We are proposing this AD because we evaluated all information and determined the unsafe condition described previously is likely to exist or develop on other products of the same type design. This proposed AD would require the inspection of the wire harness and repair or replacement of damaged wire.

Costs of Compliance

We estimate that this proposed AD would affect 512 airplanes in the U.S. registry.

We estimate the following costs to do the proposed inspection:

Labor cost | Parts cost | Total cost per airplane | Total cost on U.S. operators
1 work-hour × $80 per hour = $80 | Not Applicable | $80 | $40,960

We estimate the following costs to do any necessary repairs or replacements that would be required based on the results of the proposed inspection. We have no way of determining the number of airplanes that may need this repair/replacement:

Labor cost | Parts cost | Total cost per airplane
1 work-hour × $80 per hour = $80 | $10 | $90

Warranty credit will be given to the extent specified in Cessna Aircraft Company Service Bulletin CAB08-02, dated February 4, 2008.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

Examining the AD Docket

You may examine the AD docket that contains the proposed AD, the regulatory evaluation, any comments received, and other information on the Internet at http://www.regulations.gov; or in person at the Docket Management Facility between 9 a.m. and 5 p.m., Monday through Friday, except Federal holidays. The Docket Office (telephone (800) 647-5527) is located at the street address stated in the ADDRESSES section. Comments will be available in the AD docket shortly after receipt.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Cessna Aircraft Company: Docket No. FAA-2008-0331; Directorate Identifier 2008-CE-009-AD.

Comments Due Date

(a) We must receive comments on this airworthiness directive (AD) action by May 16, 2008.

Affected ADs

(b) None.

Applicability

(c) This AD applies to the following airplane models and serial numbers that are certificated in any category:

Models | Serial Nos.
208 | 20800001 through 20800415.
208B | 208B0001 through 208B1299.

Unsafe Condition

(d) This AD results from reports of chafed wiring found on wire bundles in the left and right wings containing the auto-control wing de-ice system, fuel quantity indication, and low fuel annunciation on several Cessna Model 208B airplanes. We are proposing this AD to detect and correct damaged wiring of the auto-control wing de-ice system, fuel quantity indication, and low fuel annunciation systems. This condition, if not corrected, could result in incorrect fuel quantity indications, loss of low fuel quantity annunciations, or loss of the auto-control wing de-ice system.

Compliance

(e) To address this problem, you must do the following, unless already done:

Actions | Compliance | Procedures
(1) Inspect the left and right wing electrical wire bundles at the anchor attach points for loose and damaged wiring | Within the next 200 hours time-in-service after the effective date of this AD, or within 12 months after the effective date of this AD, whichever comes first | Follow Cessna Aircraft Company Service Bulletin CAB08-02, dated February 4, 2008.
(2) If, as a result of the inspection required by paragraph (e)(1) of this AD, damaged wires are found, repair or replace damaged wires and properly attach wire bundle | Before further flight after the inspection required by paragraph (e)(1) of this AD | Follow Cessna Aircraft Company Service Bulletin CAB08-02, dated February 4, 2008.
(3) If, as a result of the inspection required by paragraph (e)(1) of this AD, loosely attached wires were found, secure any wires that are loosely attached and properly attach wire bundle supporting hardware | Before further flight after the inspection required by paragraph (e)(1) of this AD | Follow Cessna Aircraft Company Service Bulletin CAB08-02, dated February 4, 2008.

Alternative Methods of Compliance (AMOCs)

(f) The Manager, Wichita Aircraft Certification Office, FAA, has the authority to approve AMOCs for this AD, if requested using the procedures found in 14 CFR 39.19. Send information to ATTN: Daniel Hilton, Aerospace Engineer, FAA, Wichita ACO, 1801 Airport Road, Room 100, Wichita, Kansas 67209; telephone: 316-946-4173; e-mail address: daniel.hilton@faa.gov. Before using any approved AMOC on any airplane to which the AMOC applies, notify your appropriate principal inspector (PI) in the FAA Flight Standards District Office (FSDO), or lacking a PI, your local FSDO.

Related Information

(g) To get copies of the service information referenced in this AD, contact Cessna Aircraft Company, One Cessna Boulevard, P.O. Box 7706, Wichita, KS 67277-7704; telephone: (316) 517-5800; fax: (316) 942-9006. To view the AD docket, go to U.S. Department of Transportation, Docket Operations, M-30, West Building Ground Floor, Room W12-140, 1200 New Jersey Avenue, SE., Washington, DC 20590, or on the Internet at http://www.regulations.gov.

Issued in Kansas City, Missouri, on March 11, 2008.
David R. Showers,
Acting Manager, Small Airplane Directorate, Aircraft Certification Service.

[FR Doc. E8-5269 Filed 3-14-08; 8:45 am]

BILLING CODE 4910-13-P